DEPARTMENT OF COMMERCE

National Oceanic and Atmospheric Administration

Proposed Information Collection; Comment Request; Bay Watershed Education and Training Program National Evaluation System

AGENCY: National Oceanic and Atmospheric Administration (NOAA).

ACTION: Notice.

SUMMARY: The Department of Commerce, as part of its continuing effort to reduce paperwork and respondent burden, invites the general public and other Federal agencies to take this opportunity to comment on proposed and/or continuing information collections, as required by the Paperwork Reduction Act of 1995.

DATES: Written comments must be submitted on or before August 6, 2012.

ADDRESSES: Direct all written comments to Jennifer Jessup, Departmental Paperwork Clearance Officer, Department of Commerce, Room 6616, 14th and Constitution Avenue NW., Washington, DC 20230 (or via the Internet at JJessup@doc.gov).

FOR FURTHER INFORMATION CONTACT: Requests for additional information or copies of the information collection instrument and instructions should be directed to Bronwen Rice, NOAA Office of Education, (202) 482-6797 or Bronwen.Rice@noaa.gov.

SUPPLEMENTARY INFORMATION:

I. Abstract

This request is for a new information collection.

The NOAA Office of Education's Bay Watershed Education and Training (B-WET) program seeks to contribute to NOAA's mission by supporting education efforts to create an environmentally literate citizenry with the knowledge, attitudes, and skills needed to protect watersheds and related ocean, coastal, and Great Lakes ecosystems. B-WET currently funds projects in seven regions (California, Chesapeake Bay, Great Lakes, Gulf of Mexico, Hawaii, New England, and the Pacific Northwest). B-WET proposes to create an across-region, internal evaluation system to provide ongoing feedback on program implementation and outcomes to ensure maximum quality and efficiency of the B-WET program. The evaluation system will be sustained by B-WET staff with occasional assistance from an outside contractor.

B-WET awardees and the awardees' professional development teacher-participants will be asked to voluntarily complete an online survey form to provide evaluation data. One individual from each awardee organization will be asked to complete a form once per year of the award, and the teacher-participants will be asked to complete one form at the end of their professional development program. In addition, B-WET seeks approval of an item bank that awardees can choose to use to construct surveys for youth participants (ages 10-17) in B-WET-funded programs.

II. Method of Collection

Respondents will submit their information electronically on Web-based survey forms.

III. Data

OMB Control Number: None.

Form Number: None.

Type of Review: Regular submission (new information collection).

Affected Public: Not-for-profit institutions; individuals or households.

Estimated Number of Respondents: If NOAA B-WET is fully funded, approximately 125 not-for-profit awardees and 4,000 teachers will be invited to respond each year.

Estimated Time per Response: Awardee-respondents will complete an online survey in 30 minutes and teacher-respondents will complete an online survey in 20 minutes.

Estimated Total Annual Burden Hours: 1,396.

Estimated Total Annual Cost to Public: $0 in recordkeeping/reporting costs.

IV. Request for Comments

Comments are invited on: (a) Whether the proposed collection of information is necessary for the proper performance of the functions of the agency, including whether the information shall have practical utility; (b) the accuracy of the agency's estimate of the burden (including hours and cost) of the proposed collection of information; (c) ways to enhance the quality, utility, and clarity of the information to be collected; and (d) ways to minimize the burden of the collection of information on respondents, including through the use of automated collection techniques or other forms of information technology.

Comments submitted in response to this notice will be summarized and/or included in the request for OMB approval of this information collection; they also will become a matter of public record.

Dated: May 31, 2012.
Gwellnar Banks,
Management Analyst, Office of the Chief Information Officer.

[FR Doc. 2012-13561 Filed 6-4-12; 8:45 am]

BILLING CODE 3510-12-P